DEPARTMENT OF STATE

[Public Notice: 9058]

Prepare for the One Hundred and Second Session of the International Maritime Organization's (IMO) Legal Committee; Notice of Public Meeting

The Department of State will conduct an open meeting at 10:00 a.m. on Friday, April 3rd, 2015, in Room 2E16-06, United States Coast Guard Headquarters, 2703 Martin Luther King Jr. Ave SE., Washington, DC 20593-7213. The primary purpose of the meeting is to prepare for the one hundred and second Session of the International Maritime Organization's (IMO) Legal Committee to be held at the IMO Headquarters, United Kingdom, April 14-April 16, 2015.

The agenda items to be considered include:

• Adoption of the agenda and report on delegation credentials

• HNS Protocol, 2010

• Fair treatment of seafarers in the event of a maritime accident

• Piracy

• Technical cooperation activities related to maritime legislation

• Review of the status of conventions and other treaty instruments emanating from the Legal Committee

Members of the public may attend this meeting up to the seating capacity of the room. To facilitate the building security process, and to request reasonable accommodation, those who plan to attend should contact the meeting coordinator, Ms. Bronwyn Douglass, by email at bronwyn.douglass@uscg.mil, by phone at 202.372.3793, or in writing at Commandant (CG-094), ATTN: Office of Maritime & International Law, US Coast Guard STOP 7213, 2703 Martin Luther King Jr. Ave SE., Washington DC 20593-7213 not later than March 27, 2015, 7 days prior to the meeting. Requests made after March 27, 2015 most likely will not be accommodated, and same day requests cannot be accommodated due to the building's security process. Please note that due to security considerations, two valid, government issued photo identifications must be presented to gain entrance to the Headquarters building. The Headquarters building is accessible by taxi and privately owned conveyance (public transportation is not generally available). However, parking in the vicinity of the building is extremely limited. Additional information regarding security and parking may be found at: http://www.uscg.mil/baseNCR/documents/visit_instructions.pdf. Additional information regarding this and other IMO public meetings may be found at: www.uscg.mil/imo.

Dated: February 26, 2015.
Marc Zlomek,
U.S. Coast Guard Detailee, Office of Ocean and Polar Affairs, Department of State.

[FR Doc. 2015-05241 Filed 3-9-15; 8:45 am]

BILLING CODE 4710-09-P